DEPARTMENT OF ENERGY

Federal Energy Regulatory Commission

Combined Notice of Filings #

Take notice that the Commission received the following electric corporate filings:

Docket Numbers: EC11-53-000

Applicants: Caisse de depot et placement du Quebec T, Enbridge Inc., IPL System Inc., Laurentides Investissements S.A.S.

Description: Laurentides Investissements S.A.S et al. submits application for authorization to transfer its indirect 12.47% ownership interest in Green Mountain Power Corporation etc.

Filed Date: 03/21/2011

Accession Number: 20110321-0204

Comment Date: 5 p.m. Eastern Time on Monday, April 11, 2011

Take notice that the Commission received the following electric rate filings:

Docket Numbers: ER10-1638-001

Applicants: Public Service Electric and Gas Company

Description: Public Service Electric and Gas Company submits tariff filing per 35: Compliance Filing pursuant to February 25, 2011 Order to be effective 3/21/2011.

Filed Date: 03/21/2011

Accession Number: 20110321-5114

Comment Date: 5 p.m. Eastern Time on Monday, April 11, 2011

Docket Numbers: ER10-1660-001

Applicants: PSEG Fossil LLC

Description: PSEG Fossil LLC submits tariff filing per 35: Compliance Filing pursuant to February 25, 2011 Order. To be effective 3/21/2011.

Filed Date: 03/21/2011

Accession Number: 20110321-5115

Comment Date: 5 p.m. Eastern Time on Monday, April 11, 2011

Docket Numbers: ER10-2869-001

Applicants: Midwest Independent Transmission System Operator, Inc.

Description: Midwest Independent Transmission System Operator, Inc. submits tariff filing per 35: Compliance to Module B, Cross Border Out to be effective 11/22/2010.

Filed Date: 03/21/2011

Accession Number: 20110321-5119

Comment Date: 5 p.m. Eastern Time on Monday, April 11, 2011

Docket Numbers: ER11-2365-001

Applicants: Paradise Solar Urban Renewal, L.L.C.

Description: Paradise Solar Urban Renewal, L.L.C. submits tariff filing per 35.17(b): Paradise Solar Revisions to Limitations and Exemptions Tariff Language to be effective 12/15/2010.

Filed Date: 02/08/2011

Accession Number: 20110208-5165

Comment Date: 5 p.m. Eastern Time on Friday, April 01, 2011

Docket Numbers: ER11-2826-001

Applicants: Midwest Independent Transmission System Operator, Inc.

Description: Midwest Independent Transmission System Operator, Inc. submits tariff filing per 35.17(b): ATC Oconto D-T Amendment to be effective 1/6/2011.

Filed Date: 03/21/2011

Accession Number: 20110321-5031

Comment Date: 5 p.m. Eastern Time on Monday, April 11, 2011

Docket Numbers: ER11-3039-001

Applicants: Calvert Cliffs Nuclear Power Plant, LLC

Description: Calvert Cliffs Nuclear Power Plant, LLC submits tariff filing per 35: Compliance Triennial Filing to be effective 8/10/2010.

Filed Date: 03/21/2011

Accession Number: 20110321-5076

Comment Date: 5 p.m. Eastern Time on Monday, April 11, 2011

Docket Numbers: ER11-3040-001

Applicants: Constellation Energy Commodities Group Maine, LLC

Description: Constellation Energy Commodities Group Maine, LLC submits tariff filing per 35: Compliance Triennial Filing to be effective 8/10/2010.

Filed Date: 03/21/2011

Accession Number: 20110321-5097

Comment Date: 5 p.m. Eastern Time on Monday, April 11, 2011

Docket Numbers: ER11-3041-001

Applicants: Constellation Power Source Generation, Inc.

Description: Constellation Power Source Generation, Inc. submits tariff filing per 35: Compliance Triennial Filing to be effective 8/10/2010.

Filed Date: 03/21/2011

Accession Number: 20110321-5099

Comment Date: 5 p.m. Eastern Time on Monday, April 11, 2011

Docket Numbers: ER11-3042-001

Applicants: Criterion Power Partners, LLC

Description: Criterion Power Partners, LLC submits tariff filing per 35: Compliance Triennial Filing to be effective 9/30/2010.

Filed Date: 03/21/2011

Accession Number: 20110321-5077

Comment Date: 5 p.m. Eastern Time on Monday, April 11, 2011

Docket Numbers: ER11-3043-001

Applicants: R.E. Ginna Nuclear Power Plant, LLC

Description: R.E. Ginna Nuclear Power Plant, LLC submits tariff filing per 35: Compliance Triennial Filing to be effective 8/10/2010.

Filed Date: 03/21/2011

Accession Number: 20110321-5098

Comment Date: 5 p.m. Eastern Time on Monday, April 11, 2011

Docket Numbers: ER11-3044-001

Applicants: Handsome Lake Energy, LLC

Description: Handsome Lake Energy, LLC submits tariff filing per 35: Compliance Triennial Filing to be effective 8/10/2010.

Filed Date: 03/21/2011

Accession Number: 20110321-5078

Comment Date: 5 p.m. Eastern Time on Monday, April 11, 2011

Docket Numbers: ER11-3045-001

Applicants: Constellation Mystic Power, LLC

Description: Constellation Mystic Power, LLC submits tariff filing per 35: Compliance Triennial Filing to be effective 11/9/2010.

Filed Date: 03/21/2011

Accession Number: 20110321-5079

Comment Date: 5 p.m. Eastern Time on Monday, April 11, 2011

Docket Numbers: ER11-3046-001

Applicants: Nine Mile Point Nuclear Station, LLC

Description: Nine Mile Point Nuclear Station, LLC submits tariff filing per 35: Compliance Triennial Filing to be effective 8/10/2010.

Filed Date: 03/21/2011

Accession Number: 20110321-5080

Comment Date: 5 p.m. Eastern Time on Monday, April 11, 2011

Docket Numbers: ER11-3150-000

Applicants: Aquilon Power Ltd.

Description: Aquilon Power Ltd submits notification of change in status.

Filed Date: 03/18/2011

Accession Number: 20110321-0203

Comment Date: 5 p.m. Eastern Time on Friday, April 08, 2011

Docket Numbers: ER11-3151-000

Applicants: Silverhill Investments Corp.

Description: Silverhill Investments Corp submits change in status notification.

Filed Date: 03/18/2011

Accession Number: 20110321-0202

Comment Date: 5 p.m. Eastern Time on Friday, April 08, 2011

Docket Numbers: ER11-3152-000

Applicants: Silverhill Ltd.

Description: Silverhill Ltd submits change of status notification.

Filed Date: 03/18/2011

Accession Number: 20110321-0201

Comment Date: 5 p.m. Eastern Time on Friday, April 08, 2011

Docket Numbers: ER11-3160-000

Applicants: Ameren Energy Marketing Company

Description: Ameren Energy Marketing Company submits tariff filing per 35.13(a)(2)(iii): MBR Amendment 1 to be effective 5/1/2011.

Filed Date: 03/21/2011

Accession Number: 20110321-5136

Comment Date: 5 p.m. Eastern Time on Monday, April 11, 2011

Docket Numbers: ER11-3161-000

Applicants: NorthWestern Corporation

Description: NorthWestern Corporation submits tariff filing per 35.13(a)(2)(iii): Service Agreements—LGIAs with Martinsdale to be effective 9/10/2009.

Filed Date: 03/21/2011

Accession Number: 20110321-5142

Comment Date: 5 p.m. Eastern Time on Monday, April 11, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: March 22, 2011.
Nathaniel J. Davis, Sr.,
Deputy Secretary.

[FR Doc. 2011-7286 Filed 3-28-11; 8:45 am]

BILLING CODE 6717-01-P